DEPARTMENT OF STATE

[Public Notice: 12758]

60-Day Notice of Proposed Information Collection: Application for Immigrant Visa and Alien Registration

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to September 8, 2025.

ADDRESSES: You may submit comments by any of the following methods:

• Web: Persons with access to the internet may comment on this notice by going to www.Regulations.gov. You can search for the document by entering “Docket Number: DOS-2025-0073” in the Search field. Then click the “Comment Now” button and complete the comment form.

• Email: PRA_BurdenComments@state.gov.

• Regular Mail: Send written comments to: Senior Regulatory Coordinator, Visa Services, Department of State, 600 19th St. NW, Washington, DC 20006.

You must include the DS form number (if applicable), information collection title, and the OMB control number in any correspondence.

FOR FURTHER INFORMATION CONTACT: Direct requests for additional information regarding the collection listed in this notice, including requests for copies of the proposed collection instrument and supporting documents, to Information Collections Coordinator, Visa Services, Department of State, 600 19th St. NW, Washington, DC 20006, who may be reached on (202) 485-7611 or at PRA_BurdenComments@state.gov.

SUPPLEMENTARY INFORMATION:

• Title of Information Collection: Application for Immigrant Visa and Alien Registration.

• OMB Control Number: 1405-0185.

• Type of Request: Revision of a currently approved collection.

• Originating Office: CA/VO.

• Form Number: DS-260.

• Respondents: Immigrant Visa Applicants.

• Estimated Number of Respondents: 460,000.

• Estimated Number of Responses: 460,000.

• Average Time per Response: 155 minutes.

• Total Estimated Burden Time: 1,188,333 hours.

• Frequency: Once per Application.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department uses the Electronic Application for Immigrant Visa and Alien Registration (DS-260) to obtain the information needed to fulfill the legal requirements for the issuance of an immigrant visa (IV). The information required on the form is limited to what is necessary for consular officers to determine the eligibility and classification of an individual seeking an IV to the United States. Please note this information collection will no longer seek to renew the paper version of the form (DS-230), which will be discontinued effective November 1, 2025.

Methodology

The DS-260 is submitted electronically over an encrypted connection to the Department via the internet. The applicant will be instructed to print a confirmation page containing a barcoded record locator, which will be physically scanned at the time of processing.

Stuart R Wilson,
Deputy Assistant Secretary for Visa Services, Bureau of Consular Affairs, Department of State.

[FR Doc. 2025-12729 Filed 7-8-25; 8:45 am]

BILLING CODE 4710-06-P